DEPARTMENT OF HEALTH AND HUMAN SERVICES

Health Care Financing Administration

[Document Identifier: HCFA-R-246]

Emergency Clearance: Public Information Collection Requirements Submitted to the Office of Management and Budget (OMB)

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the Information collections referenced below. In compliance with the requirement of section 3506(c)(2)(A) of the Paperwork Reduction Act of 1995, we have submitted to the Office of Management and Budget (OMB) the following requirements for emergency review. Due to the unanticipated event of the settlement agreement for the Grijalva court case requiring HCFA to revise the current instrument, and because the collection of this information is needed prior to the expiration of the normal time limits under OMB's regulations at 5 CFR Part 1320, we are requesting emergency review. The Agency cannot reasonably comply with the normal clearance procedures because public harm is likely to result due to the possibility of the Medicare program being unable to provide the necessary mandated information on whether Medicare+Choice organizations are meeting their notice and appeal requirements. Additional questions have been added to the survey that address the following: enrollee knowledge about appeal rights and the appeals process; whether the enrollee ever was denied care; whether the enrollee was given written notice of the right to file a formal complaint; and whether the enrollee ever filed a complaint with his/her Medicare+Choice organization.

HCFA is requesting OMB review and approval of this collection by July 3, 2000, with a 180-day approval period. Written comments and recommendations will be accepted from the public if received by the individuals designated below by June 28, 2000. During this 180-day period, we will publish a separate Federal Register notice announcing the initiation of an extensive 60-day agency review and public comment period on these requirements. We will submit the requirements for OMB review and an extension of this emergency approval.

Type of Information Collection Request: Revision of a currently approved collection;

Title of Information Collection: The Medicare Managed Care CAHPS Survey and Supporting Regulations in 42 CFR 417.126 and 417.470;

Form No.: HCFA-R-246 (OMB #0938-0732);

Use: The CAHPS data is necessary to hold the Medicare managed care industry accountable for the quality of care they are delivering. It is critical to HCFA's mission that we collect and disseminate information that will help beneficiaries choose among plans, contribute to improved quality of care through identification of quality improvement opportunities, and assist HCFA in carrying out its responsibilities;

Frequency: On occasion;

Affected Public: Individuals or households, business or other for-profit, and not-for-profit institutions;

Number of Respondents: 204,000;

Total Annual Responses: 204,000;

Total Annual Hours: 67,320.

To obtain copies of the supporting statement and any related forms for the proposed paperwork collections referenced above, access HCFA's Web Site address at http://www.hcfa.gov/regs/prdact95.htm, or E-mail your request, including your address, phone number, to Paperwork@hcfa.gov, or call the Reports Clearance Office on (410) 786-1326.

Interested persons are invited to send comments regarding the burden or any other aspect of these collections of Information requirements. However, as noted above, comments on these Information collection and recordkeeping requirements must be mailed and/or faxed to the designees referenced below, by June 28, 2000:

Health Care Financing Administration, Office of Information Services, Security and Standards Group, Division of HCFA Enterprise Standards, Attention: Dawn Willinghan, Room N2-14-26, 7500 Security Boulevard, Baltimore, Maryland 21244-1850

and

Office of Information and Regulatory Affairs, Office of Management and Budget, Room 10235, New Executive Office Building, Washington, DC 20503, Fax Number: (202) 395-6974 or (202) 395-5167 Attn: Allison Herron Eydt, HCFA Desk Officer.

Dated: April 24, 2000.
John P. Burke III,
HCFA Reports Clearance Officer, HCFA Office of Information Services, Security and Standards Group, Division of HCFA Enterprise Standards.

[FR Doc. 00-11038 Filed 5-2-00; 8:45 am]

BILLING CODE 4120-03-P